DEPARTMENT OF COMMERCE

National Oceanic and Atmospheric Administration

50 CFR Part 679

[Docket No. 180831813-9332-03]

RIN 0648-XG471

Fisheries of the Exclusive Economic Zone Off Alaska; Gulf of Alaska; Final 2019 and 2020 Harvest Specifications for Groundfish; Correction

AGENCY: National Marine Fisheries Service (NMFS), National Oceanic and Atmospheric Administration (NOAA), Commerce.

ACTION: Final rule; correction.

SUMMARY: The National Marine Fisheries Service is correcting a final rule that published on March 14, 2019, implementing the final 2019 and 2020 harvest specifications and prohibited species catch allowances for the groundfish fishery of the Gulf of Alaska. One table in the document contains errors associated with flathead sole. These corrections are necessary to provide the correction information about the amount of flathead sole available for commercial harvest in 2019, thus allowing commercial fishermen to maximize their economic opportunities in this fishery. This correction also is necessary to comport with the requirements of the Fishery Management Plan for Groundfish of the Gulf of Alaska.

DATES: Effective April 12, 2019.

FOR FURTHER INFORMATION CONTACT: Obren Davis, 907-586-7228.

SUPPLEMENTARY INFORMATION:

Need for Correction

The National Marine Fisheries Service (NMFS) published the Gulf of Alaska (GOA) final 2019 and 2020 harvest specifications in the Federal Register on March 14, 2019 (84 FR 9416). The harvest specifications were effective March 14, 2019. A table (Table 1) providing information about the 2019 overfishing levels, acceptable biological catch (ABC), and total allowable catch (TAC) for groundfish of the GOA contains errors associated with the flathead sole ABC for the Central Regulatory Area of the GOA, as well as the flathead sole ABCs and TACs in the West Yakutat (WYK) and Southeast Outside (SEO) Districts of the Eastern Regulatory Area of the GOA. In Table 1 on page 9420 of the harvest specifications published in the Federal Register, NMFS inadvertently used incorrect values for the flathead sole ABCs and TACs for these management areas. The correct 2019 flathead sole ABC for the Central Regulatory Area of the GOA is 21,109 metric tons (mt). The correct 2019 flathead sole ABCs for the WYK and SEO Districts of the Eastern Regulatory Area of the GOA are 2,016 mt and 423 mt, respectively. The correct 2019 flathead sole TACs for the WYK and SEO Districts of the Eastern Regulatory Area of the GOA are 2,016 mt and 423 mt, respectively. These corrections also require the corresponding grand total of the 2019 flathead sole ABCs and TACs to be revised to 36,782 mt and 26,489 mt, respectively.

Classification

The Assistant Administrator for Fisheries, NOAA (AA), finds good cause to waive the requirement to provide prior notice and opportunity for public comment pursuant to the authority set forth at 5 U.S.C. 553(b)(B) as such requirement is unnecessary and contrary to the public interest. This correcting amendment makes changes to correct mis-specified 2019 flathead sole ABCs and TACs in Table 1, as described above, and does not change operating practices in the fisheries. This correcting action is consistent with the harvest specifications recommended by the North Pacific Fishery Management Council in December 2018, and ensures that the flathead sole TACs that the fishing industry expected to be available in 2019 are correct. If this correction is delayed to allow for notice and comment, it would result in confusion for participants in the fisheries, given that the final rule implementing the 2019 and 2020 harvest specifications already is effective. Therefore, in order to avoid any negative consequences that could result from this correction, the AA finds good cause to waive the requirement to provide prior notice and opportunity for public comment. The correct 2019 flathead sole TACs for the WYK and SEO Districts of the Eastern Regulatory Area of the GOA are slightly more than the incorrectly specified TACs for these two management areas. Without this correction, commercial fishermen may believe that there is less flathead sole available for harvest in 2019 then is actually available, to their economic detriment.

For the reasons above, the AA also finds good cause under 5 U.S.C. 553(d)(3) to waive the 30-day delay in effective date and make this rule effective immediately upon publication.

Correction

In the final rule, published on March 14, 2019 (84 FR 9416), the following corrections are made to Table 1:

On page 9420, in Table 1, columns 4 and 5 are corrected to incorporate the correct amounts for the 2019 flathead sole ABCs and TACs.

Table 1 is corrected and reprinted in its entirety to read as follows:

Table 1—Final 2019 OFLs, ABCs, and TACs of Groundfish for the Western/Central/West Yakutat, Western, Central, Eastern Regulatory Areas, the West Yakutat and Southeast Outside Districts of the Eastern Regulatory Area, and Gulfwide Districts of the Gulf of Alaska
[Values are rounded to the nearest metric ton]
Species | Area ¹ | OFL | ABC | TAC
Pollock ² | Shumagin (610) | n/a | 24,875 | 24,875
| Chirikof (620) | n/a | 67,388 | 67,388
| Kodiak (630) | n/a | 34,443 | 34,443
| WYK (640) | n/a | 5,748 | 5,748
| W/C/WYK (subtotal) ² | 194,230 | 135,850 | 132,454
| SEO (650) | 11,697 | 8,773 | 8,773
| Total | 205,927 | 144,623 | 141,227
Pacific cod ³ | W | n/a | 7,633 | 5,343
| C | n/a | 7,667 | 5,750
| E | n/a | 1,700 | 1,275
| Total | 23,669 | 17,000 | 12,368
Sablefish ⁴ | W | n/a | 1,581 | 1,581
| C | n/a | 5,178 | 5,178
| WYK | n/a | 1,828 | 1,828
| SEO | n/a | 2,984 | 2,984
| E (WYK and SEO) (subtotal) | n/a | 4,812 | 4,812
| Total | 25,227 | 11,571 | 11,571
Shallow-water flatfish ⁵ | W | n/a | 25,620 | 13,250
| C | n/a | 25,731 | 25,731
| WYK | n/a | 2,279 | 2,279
| SEO | n/a | 1,957 | 1,957
| Total | 68,309 | 55,587 | 43,217
Deep-water flatfish ⁶ | W | n/a | 416 | 416
| C | n/a | 3,443 | 3,443
| WYK | n/a | 3,280 | 3,280
| SEO | n/a | 2,362 | 2,362
| Total | 11,434 | 9,501 | 9,501
Rex sole | W | n/a | 2,951 | 2,951
| C | n/a | 8,357 | 8,357
| WYK | n/a | 1,657 | 1,657
| SEO | n/a | 1,727 | 1,727
| Total | 17,889 | 14,692 | 14,692
Arrowtooth flounder | W | n/a | 35,994 | 14,500
| C | n/a | 70,995 | 70,995
| WYK | n/a | 15,911 | 6,900
| SEO |  | 22,941 | 6,900
| Total | 174,598 | 145,841 | 99,295
Flathead sole | W | n/a | 13,234 | 8,650
| C | n/a | 21,109 | 15,400
| WYK | n/a | 2,016 | 2,016
| SEO | n/a | 423 | 423
| Total | 44,865 | 36,782 | 26,489
Pacific ocean perch ⁷ | W | n/a | 3,227 | 3,227
| C | n/a | 19,646 | 19,646
| WYK | n/a | 3,296 | 3,296
| W/C/WYK subtotal | 31,113 | 26,169 | 26,169
| SEO | 2,838 | 2,386 | 2,386
| Total | 33,951 | 28,555 | 28,555
Northern rockfish ⁸ | W | n/a | 1,190 | 1,190
| C | n/a | 3,338 | 3,338
| E | n/a | 1 |
| Total | 5,402 | 4,529 | 4,528
Shortraker rockfish ⁹ | W | n/a | 44 | 44
| C | n/a | 305 | 305
| E | n/a | 514 | 514
| Total | 1,151 | 863 | 863
Dusky rockfish ¹⁰ | W | n/a | 781 | 781
| C | n/a | 2,764 | 2,764
| WYK | n/a | 95 | 95
| SEO | n/a | 60 | 60
| Total | 4,521 | 3,700 | 3,700
Rougheye and Blackspotted rockfish ¹¹ | W | n/a | 174 | 174
| C | n/a | 550 | 550
| E | n/a | 704 | 704
| Total | 1,715 | 1,428 | 1,428
Demersal shelf rockfish ¹² | SEO | 411 | 261 | 261
Thornyhead rockfish | W | n/a | 326 | 326
| C | n/a | 911 | 911
| E | n/a | 779 | 779
| Total | 2,688 | 2,016 | 2,016
Other rockfish 13 14 | W and C | n/a | 1,737 | 1,737
| WYK | n/a | 368 | 368
| SEO | n/a | 3,489 | 3,489
| Total | 7,356 | 5,594 | 5,594
Atka mackerel | GW | 6,200 | 4,700 | 3,000
Big skate ¹⁵ | W | n/a | 504 | 504
| C | n/a | 1,774 | 1,774
| E | n/a | 570 | 570
| Total | 3,797 | 2,848 | 2,848
Longnose skate ¹⁶ | W | n/a | 149 | 149
| C | n/a | 2,804 | 2,804
| E | n/a | 619 | 619
| Total | 4,763 | 3,572 | 3,572
Other skates ¹⁷ | GW | 1,845 | 1,384 | 1,384
Sculpins | GW | 6,958 | 5,301 | 5,301
Sharks | GW | 10,913 | 8,184 | 8,184
Octopus | GW | 1,300 | 975 | 975
Total |  | 664,889 | 509,507 | 430,569
¹ Regulatory areas and districts are defined at § 679.2. (W = Western Gulf of Alaska; C = Central Gulf of Alaska; E = Eastern Gulf of Alaska; WYK = West Yakutat District; SEO = Southeast Outside District; GW = Gulf-wide).
² The total for the W/C/WYK Regulatory Areas pollock ABC is 135,850 mt. After deducting 2.5 percent (3,396 mt) of that ABC for the State's pollock GHL fishery, the remaining pollock ABC of 132,454 mt (for the W/C/WYK Regulatory Areas) is apportioned among four statistical areas (Areas 610, 620, 630, and 640). These apportionments are considered subarea ACLs, rather than ABCs, for specification and reapportionment purposes. The ACLs in Areas 610, 620, and 630 are further divided by season, as detailed in Table 3 (final 2019 seasonal biomass distribution of pollock in the Western and Central Regulatory Areas, area apportionments, and seasonal allowances). In the West Yakutat (Area 640) and Southeast Outside (Area 650) Districts of the Eastern Regulatory Area, pollock is not divided into seasonal allowances.
³ The annual Pacific cod TAC is apportioned 60 percent to the A season and 40 percent to the B season in the Western and Central Regulatory Areas of the GOA. Pacific cod TAC in the Eastern Regulatory Area of the GOA is allocated 90 percent to vessels harvesting Pacific cod for processing by the inshore component and 10 percent to vessels harvesting Pacific cod for processing by the offshore component. Table 5 lists the final 2019 Pacific cod seasonal apportionments.
⁴ Sablefish is allocated to trawl and fixed gear in 2019 and trawl gear in 2020. Table 7 lists the final 2019 allocations of sablefish TACs.
⁵ “Shallow-water flatfish” means flatfish not including “deep-water flatfish,” flathead sole, rex sole, or arrowtooth flounder.
⁶ “Deep-water flatfish” means Dover sole, Greenland turbot, Kamchatka flounder, and deepsea sole.
⁷ “Pacific ocean perch” means Sebastes alutus.
⁸ “Northern rockfish” means Sebastes polyspinis. For management purposes, the 1 mt apportionment of ABC to the WYK District of the Eastern Gulf of Alaska has been included in the “other rockfish” species group.
⁹ “Shortraker rockfish” means Sebastes borealis.
¹⁰ “Dusky rockfish” means Sebastes variabilis.
¹¹ “Rougheye and blackspotted rockfish” means Sebastes aleutianus (rougheye) and Sebastes melanostictus (blackspotted).
¹² “Demersal shelf rockfish” means Sebastes pinniger (canary), S. nebulosus (china), S. caurinus (copper), S. maliger (quillback), S. helvomaculatus (rosethorn), S. nigrocinctus (tiger), and S. ruberrimus (yelloweye).
¹³ “Other rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), S. reedi (yellowmouth), S. entomelas (widow), and S. flavidus (yellowtail). In the Eastern GOA only, other rockfish also includes northern rockfish, S. polyspinis.
¹⁴ “Other rockfish” in the Western and Central Regulatory Areas and in the West Yakutat District means other rockfish and demersal shelf rockfish. The “other rockfish” species group in the SEO District only includes other rockfish.
¹⁵ “Big skate” means Raja binoculata.
¹⁶ “Longnose skate” means Raja rhina.
¹⁷ “Other skates” means Bathyraja and Raja spp.

Authority: 16 U.S.C. 773 et seq.; 16 U.S.C. 1540 (f), 1801 et seq.; 16 U.S.C. 3631 et seq.; Pub. L. 105-277; Pub. L. 106-31; Pub. L. 106-554; Pub. L. 108-199; Pub. L. 108-447; Pub. L. 109-241; Pub. L 109-479.

Dated: April 8, 2019.
Samuel D. Rauch III,
Deputy Assistant Administrator for Regulatory Programs, National Marine Fisheries Service.

[FR Doc. 2019-07276 Filed 4-11-19; 8:45 am]

BILLING CODE 3510-22-P